DEPARTMENT OF HEALTH AND HUMAN SERVICES

Centers for Disease Control and Prevention

Notice of Changes in Permit Application To Import a Dog Inadequately Immunized Against Rabies

AGENCY: Centers for Disease Control and Prevention (CDC), Department of Health and Human Services (HHS).

ACTION: Notice.

SUMMARY: The Centers for Disease Control and Prevention (CDC) in the Department of Health and Human Services (HHS) announces changes in the application process to import a dog inadequately immunized against rabies. As a result of these changes, at least 10 business days before arriving into the United States with an inadequately immunized dog, an importer must apply online at https://www.cdc.gov/importation/ for a Permit to Import a Dog Inadequately Immunized against Rabies. Permit applications to import an inadequately immunized dog will not be available at the port of entry and no permits will be issued at the port of entry. Inadequately immunized dogs arriving at a port of entry without an approved permit will be denied entry into the United States and exported to its country of origin at the owner's expense.

DATES: This notice is effective August 18, 2017.

FOR FURTHER INFORMATION CONTACT:

For information regarding this notice contact: Ashley A. Marrone, J.D., Division of Global Migration and Quarantine, Centers for Disease Control and Prevention, 1600 Clifton Road NE., MS-E03, Atlanta, GA 30329.

For information regarding CDC operations related to this notice contact: Kendra Stauffer, D.V.M., Division of Global Migration and Quarantine, Centers for Disease Control and Prevention, 1600 Clifton Road NE., MS-E28, Atlanta, GA 30329. Either may also be reached by telephone 404-498-1600 or email CDCAnimalImports@cdc.gov.

SUPPLEMENTARY INFORMATION:

I. Background

Under section 361 of the Public Health Service Act (PHS Act) (42 U.S.C. 264), the Secretary of Health and Human Services, has the authority to make and enforce regulations necessary to prevent the introduction, transmission, or spread of communicable diseases from foreign countries into the United States and between U.S. states and territories. For purposes of carrying out and enforcing such regulations, the Secretary may authorize a variety of public health measures, including inspection, fumigation, disinfection, sanitation, pest extermination, destruction of animals or articles found to be sources of dangerous infection to human beings, and other measures. Since 1956, federal quarantine regulations have controlled the entry of dogs into the United States. See 21 FR 9870 (Dec. 12, 1956). Currently, HHS/CDC regulates the import of dogs into the United States under regulations found at 42 CFR 71.51. Among the principal concerns for regulating the import of dogs is to prevent the introduction and spread of rabies. Authority for carrying out 42 CFR 71.51 has been delegated to HHS/CDC's Division of Global Migration and Quarantine (DGMQ), which staffs and maintains quarantine stations at major U.S. ports of entry.

DGMQ oversees the import of dogs into the United States to ensure that dogs show no signs of communicable disease upon arrival and are vaccinated against rabies. Under 42 CFR 71.51, the owner or owner's agent must present a valid rabies vaccination certificate for a dog upon arrival at a U.S. port of entry. The only exceptions to this requirement are if the owner or agent submits satisfactory evidence that the dog, for the previous 6 months before arrival, has only been in a country that does not present a risk for canine rabies or the dog is to be taken to a research facility and vaccination would interfere with the purposes of the research.

Under 42 CFR 71.51(c)(2), however, the CDC Director may authorize admission of an inadequately immunized dog if the owner or owner's agent agrees to confine the dog under conditions that restrict its contact with humans and other animals until it is fully immunized against rabies. Under these circumstances, if the date of vaccination shown on the vaccination certificate is less than 30 days before the date of arrival and the dog was 3 months of age or older when vaccinated, the dog may be admitted into the United States, but must be confined until at least 30 days have elapsed since the date of vaccination. If the dog is unvaccinated upon arrival and is at least 3 months of age or older, it may be admitted, but must be confined until it is vaccinated against rabies and 30 days have elapsed since vaccination. If the dog is either unvaccinated or partially immunized upon arrival and is less than 3 months of age, it may be admitted, but must be confined until vaccinated against rabies at 3 months of age and for at least 30 days after the date of vaccination.

In 2014, HHS/CDC published guidance in the Federal Register clarifying that it allows an owner or agent to import an inadequately immunized dog into the United States only for purposes of personal pet ownership. See 79 FR 39403 (July 20, 2014). This document also described the criteria that HHS/CDC uses in determining whether to issue a dog confinement agreement that allows the entry into the United States and confinement of a dog until it is adequately immunized against rabies. The document further described the steps that an importer may take if an imported dog is denied entry into the United States, including the availability of a written appeal.

Through today's document, HHS/CDC is informing the public that it is changing its application process from a paper-based dog confinement agreement system to a web-based application and electronic permit system (Permit to Import a Dog Inadequately Immunized against Rabies). Effective August 18, 2017, an owner or owner's agent must apply for a Permit to Import a Dog Inadequately Immunized against Rabies at least 10 business days before arriving into the United States with an inadequately immunized dog through this web-based system. Permit applications to import an inadequately immunized dog will not be available at the port of entry and no permits will be issued at the port of entry. Inadequately immunized dogs arriving at a port of entry without an approved permit will be denied entry into the United States and re-exported to the country of origin at the owner's expense.

II. Provisions of This Notice

Effective, August 18, 2017, at least 10 business days before arriving into the United States with an inadequately immunized dog, an importer must apply online at https://www.cdc.gov/importation/ for a Permit to Import a Dog Inadequately Immunized against Rabies.

DGMQ will review a permit application within 3-5 business days of receiving the application and apply the criteria in Federal Register notice published at 79 FR 39403 (July 20, 2014). If the application is approved, a permit will be emailed to the dog's owner. The owner must present the permit to the Customs and Border Protection (CBP) officer at the first arriving port of entry into the United States. The permit will be collected by the CBP officer and sent to CDC.

If the permit application is denied, DGMQ will email the reasons for the denial to the dog's owner within 3-5 business days of receiving the application. The email will include instructions on whom to contact, including name, address, and telephone number, if the dog's owner has any questions, as well as information on how to submit an appeal. In accordance with current procedures, individuals who wish to contest CDC's determination will have five business days after receiving the denial to submit a written appeal. The individual must submit the appeal via email to cdcanimalimports@cdc.gov, state the reasons for the appeal, and show that there is a genuine and substantial issue of fact in dispute. CDC will issue a response via email, which will constitute final agency action. The appeal will be reviewed and decided upon by a CDC senior management official who is senior to the employee who denied the initial permit application. In keeping with current practice, a successful appeal of a denial only permits the owner to import the dog into the United States at a later date under the requirements set forth in a dog import permit. The appeal does not entitle the owner to recover any costs related to returning a dog that has been denied entry to its country of origin and reimporting the dog into the United States. An owner or owner's agent will not be allowed to board a dog or arrange for its confinement at a port of entry pending a determination regarding the importer's application to import an inadequately immunized dog. Accordingly, inadequately immunized dogs arriving at a port of entry without an approved permit will be denied entry into the United States and re-exported to its country of origin at the owner's expense.

III. Paperwork Reduction Act

This change does not institute a new collection of information. The collection of information, has been previously approved by the Office of Management and Budget (OMB) in accordance with the requirements of the Paperwork Reduction Act (44 U.S.C. 3507) and assigned the following OMB control number: Foreign Quarantine: OMB Control No. 0920-0134, expiration date 5/31/2019.

Dated: June 12, 2017.
Sandra Cashman,
Executive Secretary, Centers for Disease Control and Prevention.

[FR Doc. 2017-12439 Filed 6-16-17; 8:45 am]

BILLING CODE 4163-18-P